DEPARTMENT OF AGRICULTURE

Food Safety and Inspection Service

[FDMS Docket No. FSIS-2006-0035]

FSIS Jurisdiction Over Flavor Products Containing Meat or Poultry

AGENCY: Food Safety and Inspection Service, USDA.

ACTION: Notice.

SUMMARY: This notice clarifies that flavor products, e.g., flavor bases, and blended and reaction/process flavors, with greater than 3 percent raw meat or poultry, or 2 percent or more cooked meat or poultry, in their formulation are amenable to Food Safety and Inspection Service (FSIS) jurisdiction. Recent findings show that some manufacturers of flavor products formulated with significant levels of meat, meat byproducts, poultry, and poultry byproducts (e.g., 30-70 percent) are not aware that such products are under FSIS jurisdiction. These manufacturers need to take necessary steps to come under inspection.

ADDRESSES: FSIS invites interested persons to submit comments on this notice. Comments may be submitted by any of the following methods:

• Mail, including floppy disks or CD-ROMs, and hand- or courier-delivered items: Send to Docket Clerk, U.S. Department of Agriculture, Food Safety and Inspection Service, 300 12th Street, SW., Room 102, Cotton Annex, Washington, DC 20250-3700.

• Electronic mail: fsis.regulationscomments@fsis.usda.gov.

• Federal eRulemaking Portal: This Web site provides the ability to type short comments directly into the comment field on this Web page or attach a file for lengthier comments. Go to http://www.regulations.gov and, in the “Search for Open Regulations” box, select “Food Safety and Inspection Service” from the agency drop-down menu, and then click on “Submit.” In the Docket ID column, select FDMS Docket Number FSIS-2006-0035 to submit or view public comments and to view supporting and related materials available electronically. After the close of the comment period, the docket can be viewed using the “Advanced Search” function in Regulations.gov.

All submissions must include the Agency name and docket number FSIS-2006-0035. All comments submitted in response to this notice will be posted to the regulations.gov Web site. The comments also will be available for public inspection in the FSIS Docket Room at the address listed above between 8:30 a.m. and 4:30 p.m., Monday through Friday. The comments also will be posted on the Agency's Web site at http://www.fsis.usda.gov/regulations_&_policies/2007_Notices_Index/index.asp.

FOR FURTHER INFORMATION CONTACT: Robert C. Post, Ph.D., Director, Labeling and Consumer Protection Staff, Room 602, Cotton Annex, 300 12th Street, SW., Washington, DC 20250-3700; (202) 205-0279.

SUPPLEMENTARY INFORMATION: Flavor products, such as flavor bases and reaction/process flavors produced with meat or poultry ingredients, are used to flavor non-meat or non-poultry foods. These bases and flavors are produced by rigorous heating for a prescribed time (e.g., 100°C or higher for at least 15 minutes) and by chemical reaction processes (e.g., hydrolysis/enzymolysis). During these processes, chemical reactions typically occur between reducing sugars and amino acids or proteins.

When flavor bases and reaction/process flavors contain greater than 3 percent raw meat or poultry or 2 percent or more cooked meat or poultry in their formulation, they are amenable to FSIS jurisdiction because one basis for determining amenability is considering the amounts of meat or poultry used in formulating products. Recent findings indicate, however, that some manufacturers of flavor products formulated with significant levels of meat, meat byproducts, poultry, and poultry byproducts (e.g., 30-70 percent) are unaware that such products are under FSIS jurisdiction.

Therefore, FSIS is publishing this notice to clarify that flavor products, e.g., bases and blended or reaction/process flavors, with greater than 3 percent raw meat or poultry, or 2 percent or more cooked meat or poultry, in their formulation are amenable to FSIS jurisdiction.

The Agency is considering making changes in whether it asserts jurisdiction over certain meat and poultry products, including flavor products, and accepted comments on this issue in response to a Federal Register notice published on November 17, 2005 (70 FR 67490). In that notice, FSIS indicated that the Agency is developing a proposed rule with the Food and Drug Administration (FDA). Until a decision is made through rulemaking that such products are products under FDA's jurisdiction, they remain under FSIS' jurisdiction, and manufacturers of these products need to respond accordingly (i.e., obtain FSIS inspection).

Additional Public Notification

Public awareness of all segments of rulemaking and policy development is important. Consequently, in an effort to ensure that minorities, women, and persons with disabilities are aware of this notice, FSIS will announce it on-line through the FSIS Web page located at http://www.fsis.usda.gov/regulations/2006_Notices_Index/. FSIS also will make copies of this Federal Register publication available through the FSIS Constituent Update, which is used to provide information regarding FSIS policies, procedures, regulations, Federal Register notices, FSIS public meetings, recalls, and other types of information that could affect or would be of interest to constituents and stakeholders. The update is communicated via Listserv, a free electronic mail subscription service for industry, trade and farm groups, consumer interest groups, allied health professionals, and other individuals who have asked to be included. The update is available on the FSIS Web page. Through the Listserv and Web page, FSIS is able to provide information to a much broader and more diverse audience. In addition, FSIS offers an e-mail subscription service which provides automatic and customized access to selected food safety news and information. This service is available at http://www.fsis.usda.gov/news_and_events/email_subscription/.

Options range from recalls to export information to regulations, directives and notices. Customers can add or delete subscriptions themselves and have the option to password-protect their account.

Done at Washington, DC on: January 23, 2007.
Barbara J. Masters,
Administrator.

[FR Doc. E7-1264 Filed 1-25-07; 8:45 am]

BILLING CODE 3410-DM-P